DEPARTMENT OF HEALTH AND HUMAN SERVICES

Centers for Disease Control and Prevention

[30Day-08-0337]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Blood Lead Surveillance System (OMB No. 0920-0337)—Extension—National Center for Environmental Health (NCEH), Coordinating Center for Environmental Health and Injury Prevention (CCEHIP), Centers for Disease Control and Prevention (CDC).

Background and Brief Description

The National Center for Environmental Health requests an extension for data collection through the National Blood Lead Surveillance System to continue its effort to collect information related to lead exposure among children and adults. The purpose of this project is to support Childhood Lead Surveillance Systems and the Adult Blood Lead Epidemiology and Surveillance Program (ABLES) at the state and national levels. The objectives for continuing data collection with the use of these systems are three fold. First, we would like to use surveillance data to estimate the extent of elevated blood-lead levels (BLLs) among children less than 6 years old. This is important because it will allow us to systematically track the management and follow-up of those children found to be poisoned with lead.

Our next objective for the continued use of this system is to examine potential sources of lead exposure. Although we've been successful in eliminating atmospheric lead with the use of unleaded gasoline and have continued to make strides in the elimination of household sources of lead commonly found in paint and dust, recent events have highlighted other potentially hidden sources of lead. This system will allow us to track the burden of such hidden sources and will help us eliminate such threats with the establishment of laws aimed at preventing the importation of such goods into our nation. The establishment of such laws will of course be a joint effort between several federal agencies; however, this surveillance system will help facilitate our efforts.

The final objective of this system is to facilitate the allocation of resources for lead poison prevention activities. The allocation of federal resources to State surveillance systems are based on reports of blood-lead tests from laboratories. Ideally, laboratories report results of all lead tests to the state health department. State health departments then send reports to CDC using de-identified data. It is from these reports that CDC is able to determine funding levels.

The use of both Childhood Lead Surveillance System and the ABLES Program will allow us to systematically track pockets of exposure to lead. It will also allow us to fully understand exposure potential and ways in which to prevent future sources of lead poisoning. Both systems are invaluable and will no doubt help us as we continue our stride in the elimination of lead poisoning in our nation.

There is no cost to respondents other than their time. The total estimated annualized burden hours are 656.

Estimated Annualized Burden
Respondents | Number of respondents | Number of response per respondent | Average burden per response (in hrs.) | Total burden hours
State and Local Health Departments for Child Surveillance | 42 | 4 | 2 | 336
State and Local Health Departments for Adult Surveillance | 40 | 4 | 2 | 320
Total |  |  |  | 656

Dated: April 18, 2008.
Maryam I. Daneshvar,
Acting Reports Clearance Officer, Centers for Disease Control and Prevention.

[FR Doc. E8-8915 Filed 4-23-08; 8:45 am]

BILLING CODE 4163-18-P